DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado: Boulder (FEMA Docket No.: B-2153). | City of Longmont (20-08-0847P). | The Honorable Brian Bagley, Mayor, City of Longmont, 350 Kimbark Street, Longmont, CO 80501. | Development Services Center, 385 Kimbark Street, Longmont, CO 80501. | Oct. 25, 2021 | 080027
Florida:
Alachua (FEMA Docket No.: B-2153). | Unincorporated areas of Alachua County (21-04-0749P). | Ms. Michelle L. Lieberman, Alachua County Manager, 12 Southeast 1st Street, Gainesville, FL 32601. | Alachua County Public Works Department, 5620 Northwest 120th Lane, Gainesville, FL 32653. | Oct. 20, 2021 | 120001
Charlotte (FEMA Docket No.: B-2148). | Unincorporated areas of Charlotte County (21-04-2201P). | The Honorable Bill Truex, Chairman, Charlotte County Board of Commissioners, 18500 Murdock Circle, Suite 536, Port Charlotte, FL 33948. | Charlotte County Community Development Department, 18500 Murdock Circle Port, Charlotte, FL 33948. | Oct. 13, 2021 | 120061
Duval (FEMA Docket No.: B-2159). | City of Jacksonville (21-04-0882P). | The Honorable Lenny Curry, Mayor, City of Jacksonville, 117 West Duval Street, Suite 400, Jacksonville, FL 32202. | Development Services Division, 214 North Hogan Street, Jacksonville, FL 32202. | Oct. 25, 2021 | 120077
Glades (FEMA Docket No.: B-2159). | Seminole Tribe of Florida (21-04-1236P). | The Honorable Marcellus W. Osceola, Jr., Chairman, Seminole Tribe of Florida, 6300 Stirling Road, Hollywood, FL 33024. | Hollywood Environmental Resource Management Department, 6363 Taft Street, Suite 309, Hollywood, FL 33024. | Oct. 21, 2021 | 120685
Glades (FEMA Docket No.: B-2159). | Unincorporated areas of Glades County (21-04-1236P). | The Honorable Tim Stanley, Chairman, Glades County Board of Commissioners, P.O. Box 1527, Moore Haven, FL 33471. | Glades County Community Development Department, 198 6th Street, Moore Haven, FL 33471. | Oct. 21, 2021 | 120095
Hendry (FEMA Docket No.: B-2159). | Seminole Tribe of Florida (19-04-1505P). | The Honorable Marcellus W. Osceola, Jr., Chairman, Seminole Tribe of Florida, 6300 Stirling Road, Hollywood, FL 33024. | Hollywood Environmental Resource Management Department, 6363 Taft Street, Suite 309, Hollywood, FL 33024. | Oct. 15, 2021 | 120685
Hendry (FEMA Docket No.: B-2159). | Unincorporated areas of Hendry County (19-04-1505P). | The Honorable Mitchell Wills, Chairman, Hendry County Board of Commissioners, P.O. Box 2340, LaBelle, FL 33975. | Hendry County Building Department, 640 South Main Street, LaBelle, FL 33935. | Oct. 15, 2021 | 120107
Lee (FEMA Docket No.: B-2153). | Unincorporated areas of Lee County (21-04-1477P). | Mr. Roger Desjarlais, Lee County Manager, 2115 2nd Street, Fort Myers, FL 33901. | Lee County Building Department, 1500 Monroe Street, Fort Myers, FL 33901. | Oct. 20, 2021 | 125124
Lee (FEMA Docket No.: B-2153). | Village of Estero (21-04-1477P). | Mr. Steven R. Sarkozy, Village of Estero Manager, 9401 Corkscrew Palms Circle, Estero, FL 33928. | Village Hall, 9401 Corkscrew Palms Circle, Estero, FL 33928. | Oct. 20, 2021 | 120260
Monroe (FEMA Docket No.: B-2153). | Village of Islamorada (21-04-2470P). | The Honorable Buddy Pinder, Mayor, Village of Islamorada, 86800 Overseas Highway, Islamorada, FL 33036. | Building Department, 86800 Overseas Highway, Islamorada, FL 33036. | Oct. 18, 2021 | 120424
Palm Beach (FEMA Docket No.: B-2153). | Unincorporated areas of Palm Beach County (20-04-0988P). | Ms. Verdenia C. Baker, Palm Beach County Administrator, 301 North Olive Avenue, Suite 1101 West Palm Beach, FL 33401. | Palm Beach County Planning, Zoning and Building Department, 2300 North Jog Road, Room 1E-17, West Palm Beach, FL 33411. | Oct. 18, 2021 | 120192
Sarasota (FEMA Docket No.: B-2153). | Unincorporated areas of Sarasota County (21-04-1410P). | The Honorable Alan Maio, Chairman, Sarasota County Board of Commissioners, 1660 Ringling Boulevard, Sarasota, FL 34236. | Sarasota County Planning and Development, Services Department, 1001 Sarasota Center Boulevard, Sarasota, FL 34240. | Oct. 13, 2021 | 125144
Sumter (FEMA Docket No.: B-2153). | City of Wildwood (20-04-3503P). | The Honorable Ed Wolf, Mayor, City of Wildwood, 100 North Main Street Wildwood, FL 34785. | Public Works Department, 743 Huey Street, Wildwood, FL 34785. | Oct. 15, 2021 | 120299
Sumter (FEMA Docket No.: B-2153). | City of Wildwood (20-04-3653P). | The Honorable Ed Wolf, Mayor, City of Wildwood, 100 North Main Street, Wildwood, FL 34785. | Public Works Department, 743 Huey Street, Wildwood, FL 34785. | Oct. 15, 2021 | 120299
Sumter (FEMA Docket No.: B-2153). | Unincorporated areas of Sumter County (20-04-3503P). | The Honorable Garry Breeden, Chairman, Sumter County Board of Commissioners, 7375 Powell Road Wildwood, FL 34785. | Sumter County Planning Department 7375 Powell Road, Suite 115 Wildwood, FL 34785. | Oct. 15, 2021 | 120296
Sumter (FEMA Docket No.: B-2153). | Unincorporated areas of Sumter County (20-04-3653P). | The Honorable Garry Breeden, Chairman, Sumter County Board of Commissioners, 7375 Powell Road, Wildwood, FL 34785. | Sumter County Planning Department, 7375 Powell Road, Suite 115, Wildwood, FL 34785. | Oct. 15, 2021 | 120296
Walton (FEMA Docket No.: B-2159). | City of Freeport (21-04-1423P). | The Honorable Russ Barley, Mayor, City of Freeport, 112 State Highway 20 West, Freeport, FL 32439. | Planning and Zoning Department, 16040 Highway 331 Business, Freeport, FL 32439. | Oct. 18, 2021 | 120319
Kentucky: Hardin (FEMA Docket No.: B-2153). | City of Vine Grove (21-04-0296P). | The Honorable Pam Ogden, Mayor, City of Vine Grove, 300 West Main Street, Vine Grove, KY 40175. | City Hall, 300 West Main Street, Vine Grove, KY 40175. | Oct. 25, 2021 | 210096
Maine: York (FEMA Docket No.: B-2159). | Town of Kittery (20-01-0605P). | Ms. Kendra Amaral, Manager, Town of Kittery, 200 Rogers Road, Kittery, ME 03904. | Planning and Development Department, 200 Rogers Road, Kittery, ME 03904. | Oct. 14, 2021 | 230171
New Mexico: Bernalillo (FEMA Docket No.: B-2148). | Unincorporated areas of Bernalillo County (20-06-2872P). | The Honorable Charlene E. Pyskoty, Chair, Bernalillo County Board of Commissioners, 1 Civic Plaza Northwest, Albuquerque, NM 87102. | Bernalillo County Public Works Department, 2400 Broadway Boulevard, Albuquerque, NM 87102. | Oct. 12, 2021 | 350001
Pennsylvania:
Lackawanna (FEMA Docket No.: B-2148). | Borough of Moosic (21-03-0726P). | The Honorable James Segilia, Mayor, Borough of Moosic, 715 Main Street, Moosic, PA 18507. | Borough Hall, 715 Main Street, Moosic, PA 18507. | Oct. 18, 2021 | 420533
Lackawanna (FEMA Docket No.: B-2148). | Borough of Old Forge (21-03-0726P). | The Honorable Bob Legg, Mayor, Borough of Old Forge, 310 South Main Street, Old Forge, PA 18518. | Borough Hall, 310 South Main Street, Old Forge, PA 18518. | Oct. 18, 2021 | 420535
Texas:
Bexar (FEMA Docket No.: B-2159). | City of San Antonio (20-06-2739P). | The Honorable Ron Nirenberg, Mayor, City of San Antonio, P.O. Box 839966, San Antonio, TX 78283. | Transportation and Capital Improvement, Storm Water Division, 114 West Commerce Street, San Antonio, TX 78205. | Oct. 18, 2021 | 480045
Bexar (FEMA Docket No.: B-2159). | City of San Antonio (21-06-0439P). | The Honorable Ron Nirenberg, Mayor, City of San Antonio, P.O. Box 839966, San Antonio, TX 78283. | Transportation and Capital Improvement, Storm Water Division, 114 West Commerce Street, San Antonio, TX 78205. | Oct. 25, 2021 | 480045
Bexar (FEMA Docket No.: B-2159). | Unincorporated areas of Bexar County (21-06-0439P). | The Honorable Nelson W. Wolff, Bexar County Judge, 101 West Nueva Street, 10th Floor, San Antonio, TX 78205. | Bexar County Public Works Department, 1948 Probandt Street, San Antonio, TX 78214. | Oct. 25, 2021 | 480035
Collin (FEMA Docket No.: B-2153). | City of McKinney (21-06-0619P). | The Honorable George Fuller, Mayor, City of McKinney, P.O. Box 517, McKinney, TX 75070. | Engineering Department, 221 North Tennessee Street, McKinney, TX 75069. | Oct. 12, 2021 | 480135
Collin (FEMA Docket No.: B-2153). | Unincorporated areas of Collin County (21-06-0619P). | The Honorable Chris Hill, Collin County Judge, 2300 Bloomdale Road, Suite 4192, McKinney, TX 75071. | Collin County Engineering Department, 4690 Community Avenue, Suite 200, McKinney, TX 75071. | Oct. 12, 2021 | 480130
Dallas (FEMA Docket No.: B-2153). | City of Rowlett (21-06-0711P). | The Honorable Tammy Dana-Bashian, Mayor, City of Rowlett, 4000 Main Street, Rowlett, TX 75088. | Community Development Department, 5702 Rowlett Road, Rowlett, TX 75089. | Oct. 15, 2021 | 480185
Dallas (FEMA Docket No.: B-2148). | Town of Sunnyvale (20-06-3713P). | The Honorable Saji George, Mayor, Town of Sunnyvale, 127 North Collins Road Sunnyvale, TX 75182. | Town Hall, 127 North Collins Road Sunnyvale, TX 75182. | Oct. 18, 2021 | 480188
Galveston (FEMA Docket No.: B-2159). | City of League City (21-06-0710P). | The Honorable Pat Hallisey, Mayor, City of League City, 300 West Walker Street, League City, TX 77573. | Engineering Department, 500 West Walker Street, League City, TX 77573. | Oct. 18, 2021 | 485488
Galveston (FEMA Docket No.: B-2159). | Unincorporated areas of Galveston County (21-06-0710P). | The Honorable Mark Henry, Galveston County Judge, 772 Moody Avenue, Suite 200, Galveston, TX 77550. | Galveston County Building Department, 823 Rosenberg Street, Galveston, TX 77553. | Oct. 18, 2021 | 485470
Webb (FEMA Docket No.: B-2159). | Unincorporated areas of Webb County (21-06-0214P). | The Honorable Tano E. Tijerina, Webb County Judge, 1000 Houston Street, 3rd Floor, Laredo, TX 78040. | Webb County Planning Department, 1110 Washington Street, Suite 302, Laredo, TX 78040. | Oct. 12, 2021 | 481059
Williamson (FEMA Docket No.: B-2153). | City of Georgetown (21-06-0115P). | Mr. David Morgan, Manager, City of Georgetown, P.O. Box 409, Georgetown, TX 78626. | Mapping and GIS Department, 300-1 Industrial Avenue, Georgetown, TX 78626. | Oct. 14, 2021 | 480668
Williamson (FEMA Docket No.: B-2153). | Unincorporated areas of Williamson County (21-06-0115P). | The Honorable Bill Gravell, Jr., Williamson County Judge, 710 South Main Street, Suite 101, Georgetown, TX 78626. | Williamson County Engineering Department, 3151 Southeast Inner Loop, Georgetown, TX 78626. | Oct. 14, 2021 | 481079
Utah: Washington (FEMA Docket No.: B-2153). | City of Hurricane (20-08-1034P). | The Honorable John W. Bramall, Mayor, City of Hurricane, 147 North 870 West, Hurricane, UT 84737. | Engineering Department, 147 North 870 West, Hurricane, UT 84737. | Oct. 25, 2021 | 490172

[FR Doc. 2021-24983 Filed 11-15-21; 8:45 am]

BILLING CODE 9110-12-P